SURFACE TRANSPORTATION BOARD

[Docket No. FD 36456]

Dutchtown Southern Railroad, L.L.C.—Lease and Operation Exemption—Illinois Central Railroad Company

Dutchtown Southern Railroad, L.L.C. (DUSR), a noncarrier, has filed a verified notice of exemption under 49 CFR 1150.31 to lease from Illinois Central Railroad Company (IC) and operate approximately 9,285 feet of track known as the Rubber Lead Track, extending from a point on the Line roughly adjacent to milepost 386 + 1636.15' on IC's parallel main line, extending southeastward to a point proximate to milepost 388 + 357' on the aforementioned, parallel-running IC main line in Geismar, Ascension Parish, La. (the Line).¹

¹ The verified notice indicates that DUSR also will secure rights to operate into IC's Geismar storage yard for purposes of interchanging rail cars there with IC.

This transaction is related to a concurrently filed verified notice of exemption in Watco Holdings, Inc.—Continuance in Control Exemption—Dutchtown Southern Railroad, L.L.C., Docket No. FD 36457, in which Watco Holdings, Inc., seeks to continue in control of DUSR upon DUSR's becoming a Class III rail carrier.

DUSR states that it and IC will shortly execute agreements pursuant to which DUSR will lease the Line from IC and will be the operator of the Line. DUSR further states that the proposed agreements between DUSR and IC do not contain any provision limiting DUSR's future interchange of traffic on the Line with a third-party connecting carrier.

DUSR certifies that its projected annual revenues as a result of this transaction will not result in DUSR's becoming a Class II or Class I rail carrier. DUSR further certifies that its projected annual revenue will not exceed $5 million.

The transaction may be consummated on or after January 8, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 31, 2020 (at least seven days before the exemption becomes effective).

All pleadings, referring to Docket No. FD 36456, should be filed with the Surface Transportation Board via e-filing on the Board's website. In addition, a copy of each pleading must be served on DUSR's representative, Robert A. Wimbish, Fletcher & Sippel LLC, 29 North Wacker Drive, Suite 800, Chicago, IL 60606-3208.

According to DUSR, this action is categorically excluded from environmental review under 49 CFR 1105.6(c) and from historic reporting requirements under 49 CFR 1105.8(b).

Board decisions and notices are available at www.stb.gov.

Decided: December 17, 2020.
By the Board, Allison C. Davis, Director, Office of Proceedings.
Kenyatta Clay,
Clearance Clerk.

[FR Doc. 2020-28274 Filed 12-22-20; 8:45 am]

BILLING CODE 4915-01-P